FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011928-006.

Title: Maersk Line/HLAG Slot Charter Agreement.

Parties: A.P. Moller-Maersk A/S and Hapag-Lloyd AG.

Filing Party: Wayne Rohde, Esq.; Cozen O'Connor; 1627 I Street, NW.; Suite 1100; Washington, DC 20006.

Synopsis: The amendment reflects changes in the space allocations.

Agreement No.: 012063-003.

Title: Grand Alliance/Zim Transpacific Vessel Sharing Agreement.

Parties: Hapag-Lloyd Aktiengesellschaft; Nippon Yusen Kaisha; Orient Overseas Container Line Limited; and Zim Integrated Shipping Services Limited.

Filing Party: Wayne Rohde, Esq.; Cozen O'Connor; 1627 I Street, NW.; Suite 1100; Washington, DC 20006.

Synopsis: The amendment would increase the number of vessels to be deployed under the Agreement, revise the initial duration of the Agreement, revise provisions relating to the partners' SCE service, and restate the Agreement.

Agreement No.: 012122.

Title: Grand Alliance/Zim/HMM Transpacific Vessel Sharing Agreement.

Parties: Hapag-Lloyd Aktiengesellschaft; Hyundai Merchant Marine Co., Ltd.; Nippon Yusen Kaisha; Orient Overseas Container Line Limited; and Zim Integrated Shipping Services Limited (ZIM).

Filing Party: Wayne Rohde, Esq.; Cozen O'Connor; 627 I Street, NW.; Suite 1100; Washington, DC 20006.

Synopsis: The agreement authorizes the parties to share vessel space in the trade between ports on the U.S. East Coast and ports in China, (including Hong Kong), Taiwan, Panama, and Jamaica.

Agreement No.: 012123.

Title: NYK/Liberty Global Space Charter Agreement.

Parties: Liberty Global Logistics LLC and Nippon Yusen Kaisha.

Filing Party: Patricia M. O'Neill, Esq.; Corporate Counsel; NYK Line (North America) Inc.; 300 Lighting Way, 5th Floor; Secaucus, NJ 07094.

Synopsis: The agreement authorizes the parties to cross charter space on each other's vessels in the trade from ports on the U.S. Atlantic and Gulf coasts to ports on the Red Sea and Persian Gulf.

Agreement No.: 012124.

Title: CSAV/”K” Line-Baltimore/Livorno Space Charter Agreement.

Parties: Compana Sud Americana de Vapores S.A. and Kawasaki Kaisan Kaisha, Ltd.

Filing Party: John P. Meade, Esq.; Vice-President; K- Line America, Inc.; 6009 Bethlehem Road; Preston, MD 21655.

Synopsis: The agreement authorizes the parties to charter space in the trade from ports on the U.S. East coast to Livorno, Italy.

Agreement No.: 201162-007.

Title: NYSA-ILA Assessment Agreement.

Parties: International Longshoremen's Association and New York Shipping Association.

Filing Parties: Donato Caruso, Esq.; The Lambos Firm; 29 Broadway, 9th Floor; New York, NY 10006 and Andre Mazzola, Esq.; Marrinan & Mazzola Mardon, P.C.; 26 Broadway, 17th Floor; New York, NY 10004.

Synopsis: The amendment reduces the assessment rate per house container.

By Order of the Federal Maritime Commission.
Dated: April 1, 2011.
Rachel E. Dickon,
Assistant Secretary.

[FR Doc. 2011-8203 Filed 4-5-11; 8:45 am]

BILLING CODE 6730-01-P